DEPARTMENT OF THE INTERIOR

Fish and Wildlife Service

[FWS-R4-ES-2013-N215; 40120-1112-0000-F2]

Endangered and Threatened Wildlife and Plants; Programmatic Incidental Take Permit Application and Environmental Assessment for Development Activities; Charlotte County, FL

AGENCY: Fish and Wildlife Service, Interior.

ACTION: Notice of availability; request for comments.

SUMMARY: Under the Endangered Species Act of 1973, as amended (Act), we, the U.S. Fish and Wildlife Service, announce the receipt and availability of a proposed county-wide programmatic habitat conservation plan (HCP) and accompanying documents for private and commercial development projects, public works, and municipal infrastructure improvements (activities) regulated or authorized by the Charlotte County Board of County Commissioners (applicant). If approved, the permit would authorize incidental take of Florida scrub-jay (scrub-jay) and eastern indigo snake (indigo snake), in the course of activities conducted or permitted by the applicant in Charlotte County, FL. We invite the public to comment on these documents.

DATES: To ensure consideration, please send your written comments by April 22, 2014.

ADDRESSES: Documents are available for public inspection by appointment during regular business hours at the Fish and Wildlife Service's Regional Office, 1875 Century Boulevard, Suite 200, Atlanta, GA 30345; or the South Florida Field Office, Fish and Wildlife Service, 1339 20th Street, Vero Beach, FL 32960.

FOR FURTHER INFORMATION CONTACT: Mr. David Dell, Regional HCP Coordinator, (see ADDRESSES), telephone: 404-679-7313; or Ms. Elizabeth Landrum, Field Office Project Manager, at the South Florida Field Office (see ADDRESSES), telephone: 772-469-4304. If you use a telecommunications device for the deaf (TDD), please call the Federal Information Relay Service (FIRS) at 800-877-8339.

SUPPLEMENTARY INFORMATION: We announce the availability of the proposed HCP, accompanying incidental take permit (ITP) application, and an environmental assessment (EA), which analyze the take of the scrub-jay (Aphelocoma coerulescens) and indigo snake (Drymarchon courais cooperii) incidental to activities conducted or permitted by the applicant. The applicant requests a 30-year ITP under section 10(a)(1)(B) of the Act, as amended (16 U.S.C. 1531 et seq.). The applicant's HCP describes the mitigation and minimization measures proposed to address the impacts to the species.

We specifically request information, views, and opinions from the public on our proposed Federal action, including identification of any other aspects of the human environment not already identified in the EA pursuant to National Environmental Policy Act (NEPA) regulations in the Code of Federal Regulations (CFR) at 40 CFR 1506.6. Further, we specifically solicit information regarding the adequacy of the HCP per 50 CFR parts 13 and 17.

The EA assesses the likely environmental impacts associated with the implementation of the activities, including the environmental consequences of the no-action alternative and the proposed action. The proposed action alternative is issuance of the ITP and implementation of the HCP as submitted by the Applicant. The applicant anticipates taking a total of approximately 3,056 acres of scrub-jay and indigo snake habitat incidental to construction of residential, commercial, and public facilities, as well as the associated infrastructure. The minimization and mitigation measures proposed in the HCP include habitat management activities on a total of 4,496 acres of mitigation land. Most of this total is already owned by the applicant, while an additional 1,336 acres would be acquired during the ITP's term. Typical management activities include prescribed burning, mechanical cutting, and related measures to restore dry scrub habitats to support scrub-jays and indigo snakes.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE09117B-0 in such comments. You may mail comments to the Fish and Wildlife Service's Regional Office (see ADDRESSES). You may also comment via the internet to david_dell@fws.gov. Please include your name and return address in your message. If you do not receive a confirmation from us that we have received your message, contact us directly at either telephone number listed under FOR FURTHER INFORMATION CONTACT.

Finally, you may hand-deliver comments to either of our offices listed under ADDRESSES.

Covered Area

Scrub-jays and indigo snakes historically occurred in dry scrub habitats throughout Charlotte County. The area encompassed by the HCP and ITP application consists of private and applicant-owned lands currently occupied, or suitable for restoration as, scrub-jay and indigo snake habitat in Charlotte County, Florida.

Next Steps

We will evaluate the ITP application, including the HCP and any comments we receive, to determine whether the application meets the requirements of section 10(a)(1)(B) of the Act. We will also evaluate whether issuance of a section 10(a)(1)(B) ITP complies with section 7 of the Act by conducting an intra-Service section 7 consultation. We will use the results of this consultation, in combination with the above findings, in our final analysis to determine whether or not to issue the ITP. If we determine that the requirements are met, we will issue the ITP for the incidental take of Florida scrub-jay and eastern indigo snake.

Authority

We provide this notice under section 10 of the Act (16 U.S.C. 1531 et seq.) and NEPA regulations (40 CFR 1506.6).

Dated: November 21, 2013.
Mike Oetker,
Acting Regional Director.

[FR Doc. 2014-03670 Filed 2-20-14; 8:45 am]

BILLING CODE 4310-55-P